DEPARTMENT OF ENERGY

Federal Energy Regulatory Commission

[Docket No. PL04-6-000]

Solicitation Processes for Public Utilities; Notice Inviting Comments

June 10, 2004.

On June 10, 2004, the Commission Staff held a technical conference to discuss the solicitation processes for public utilities. All interested persons are invited to file written comments no later than July 1, 2004, in relation to the issues that were the subject of the technical conference.

Filing Requirements for Paper and Electronic Filings

Comments, papers, or other documents related to this proceeding may be filed in paper format or electronically. The Commission strongly encourages electronic filings. Those filing electronically do not need to make a paper filing.

Documents filed electronically via the Internet must be prepared in MS Word, Portable Document Format, or ASCII format. To file the document, access the Commission's Web site at http://www.ferc.gov, click on “e-Filing” and then follow the instructions for each screen. First time users will have to establish a user name and password. The Commission will send an automatic acknowledgement to the sender's e-mail address upon receipt of comments. User assistance for electronic filing is available at 202-502-8258 or by e-mail to efiling@ferc.gov. Do not submit comments to this e-mail address.

For paper filings, the original and 14 copies of the comments should be submitted to the Office of the Secretary, Federal Energy Regulatory Commission, 888 First Street, NE., Washington, DC 20426 and should refer to the above-referenced docket number.

All written comments will be placed in the Commission's public files and will be available for inspection at the Commission's Public Reference Room, 888 First Street, NE., Washington, DC, 20426, during regular business hours.

Linda Mitry,
Acting Secretary.

[FR Doc. E4-1363 Filed 6-17-04; 8:45 am]

BILLING CODE 6717-01-P